DEPARTMENT OF THE TREASURY

Bureau of Alcohol, Tobacco and Firearms

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Pub. L. 104-13 (44 U.S.C. 3506(c)(2)(A)). Currently, the Bureau of Alcohol, Tobacco and Firearms within the Department of the Treasury is soliciting comments concerning the Certificates of Label Approval (COLAs) Online Access Request.

DATES: Written comments should be received on or before October 21, 2002 to be assured of consideration.

ADDRESSES: Direct all written comments to Bureau of Alcohol, Tobacco and Firearms, Linda Barnes, 650 Massachusetts Avenue, NW., Washington, DC 20226, (202) 927-8930.

FOR FURTHER INFORMATION CONTACT: Requests for additional information or copies of the form(s) and instructions should be directed to Thomas Stewart, Program Manager, E Government, 650 Massachusetts Avenue, NW., Washington, DC 20226, (202) 927-8193.

SUPPLEMENTARY INFORMATION: Title: COLAs Online Access Request.

Form Number: ATF F 5013.2.

Abstract: The information on this form will be used by ATF to authenticate end users in the system to electronically file Certificates of Label Approval (COLAs). The system will authenticate end users by comparing information submitted on the form to records held in multiple, independently sourced databases, such as consumer credit, postal address and credit card databases. By checking multiple sources, often with an overlapping scope of coverage, the verification engine will facilitate the authentication process and reduce the possibility of fraud. After verifying the applicant user is who they claim to be, a password will be issued to allow the user to access the system.

Current Actions: This is a new information collection.

Type of Review: New.

Affected Public: Business or other for-profit.

Estimated Number of Respondents: 1,000.

Estimated Total Annual Burden Hours: 300.

Request For Comments

Comments submitted in response to this notice will be summarized and/or included in the request for OMB approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: August 8, 2002.
William T. Earle,
Assistant Director (Management) CFO.

[FR Doc. 02-20875 Filed 8-19-02; 8:45 am]

BILLING CODE 4810-31-P